DEPARTMENT OF TRANSPORTATION

Coast Guard

33 CFR Part 165

[CGD01-00-152]

RIN 2115-AA97

Security Zone: Presidential Visit, Hudson River, New York

AGENCY: Coast Guard, DOT.

ACTION: Temporary final rule.

SUMMARY: The Coast Guard is establishing a temporary security zone between Piers 83 and 90 on the Hudson River, Manhattan, New York. This action is necessary to protect the Port of New York/New Jersey against terrorism, sabotage or other subversive acts and incidents of a similar nature during the President's visit to New York City. This action is intended to restrict vessel traffic in a portion of the Hudson River.

DATES: This rule is effective from 6 p.m. (e.s.t.) to 11 p.m. (e.s.t.) on July 5, 2000.

ADDRESSES: Comments and material received from the public, as well as documents indicated in this preamble as being available in the docket, are part of docket (CGD01-00-152) and are available for inspection or copying at Coast Guard Activities New York, 212 Coast Guard Drive, room 204, Staten Island, New York, 10305, between 8 a.m. and 3 p.m., Monday through Friday, except Federal holidays.

FOR FURTHER INFORMATION CONTACT: Lieutenant M. Day, Waterways Oversight Branch, Coast Guard Activities New York (718) 354-4012.

SUPPLEMENTARY INFORMATION:

Regulatory Information

We did not publish a notice of proposed rulemaking (NPRM) for this regulation. Under 5 U.S.C. 553(b)(8), the Coast Guard finds that good cause exists for not publishing an NPRM. Good cause exists for not publishing an NPRM due to the date that specific information on the President's visit to New York City was made available to the Coast Guard, there was insufficient time to draft and publish an NPRM. This event will have minimal impact on the waterway, vessels may still transit through the western 600 yards of the 950-yard wide Hudson River during the President's visit to the Intrepid Sea Air and Space Museum, and the zone is only in effect for 5 hours. Additionally, the New York City Passenger Ship Terminal does not have any vessels scheduled to be berthed at Piers 88 or 90 during the event and do not expect to receive any at this late date. Circle Line Sightseeing Cruises anticipates only having to move 2 vessels at Pier 83 between 6 p.m. (e.s.t.) and 6:30 p.m. (e.s.t.) which they will be authorized to do. Any delay encountered in this regulation's effective date would be unnecessary and contrary to security interests as immediate action is needed to protect the Port of New York/New Jersey and the President.

Under 5 U.S.C. 553(d)(3), the Coast Guard finds that good cause exists for making this rule effective less than 30 days after publication in the Federal Register. This is due to the following reasons: this event will have minimal impact on the waterway, vessels may still transit through the western 600 yards of the 950-yard wide Hudson River during the President's visit to the Intrepid Sea Air and Space Museum, and the zone is only in effect for 5 hours. Additionally, the New York City Passenger Ship Terminal does not have any vessels scheduled to be berthed at Piers 88 or 90 during the event and do not expect to receive any at this late date. Circle Line Sightseeing Cruises anticipates only having to move 2 vessels at Pier 83 between 6 p.m. (e.s.t.) and 6:30 p.m. (e.s.t.) which they will be authorized to do.

Background and Purpose

This zone is needed to ensure the security of the Port of New York/New Jersey while the President is visiting the Intrepid Sea Air and Space Museum in Manhattan. This security zone will safeguard the Port of New York/New Jersey during his visit to the Intrepid Museum against terrorism, sabotage or other subversive acts and incidents of a similar nature. This security zone provides for an exclusion area during the President's visit at the museum. This zone includes all waters of the Hudson River bound by the following points: from the southeast corner of Pier 90, Manhattan, where it intersects the seawall, west to approximate position 40°46′10″ N 074°00′13″ W (NAD 1983), south to approximate position 40°45′54″ N 074°00′25″ W (NAD 1983), then east to the northeast corner of Pier 83 where it intersects the seawall, then north to the point of beginning. The security zone is based on security needs for the Port of New York/New Jersey and the President. All vessels are prohibited from transiting the area for approximately five hours during the President's visit at the Intrepid Museum. The New York City Passenger Ship Terminal does not have any vessels scheduled to be berthed at Piers 88 or 90 during the event and do not expect to receive any at this late date. Circle Line Sightseeing Cruises anticipates only having to move 2 vessels at Pier 83 between 6 p.m. (e.s.t.) and 6:30 p.m. (e.s.t.) which they will be authorized to do. This security zone has been narrowly tailored to impose the least impact on maritime interests yet provide the level of security deemed necessary. Entry into or movement within this security zone is prohibited unless authorized by the Coast Guard Captain of the Port, New York.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979).

We expect the economic impact of this rule to be so minimal that a full Regulatory Evaluation under paragraph 10e of the regulatory policies and procedures of DOT is unnecessary.

This finding is based on the minimal time that vessels will be restricted from the zone, that vessels may still transit through the western 600 yards of the 950-yard wide Hudson River while the security zone is in effect. Additionally, the New York City Passenger Ship Terminal does not have any vessels scheduled to be berthed at Piers 88 or 90 during the event and do not expect to receive any at this late date. Circle Line Sightseeing Cruises anticipates only having to move 2 vessels at Pier 83 between 6 p.m. (e.s.t.) and 6:30 p.m. (e.s.t.) which they will be authorized to do, and extensive advance notifications that will be made.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under section 5 U.S.C. 605(b) that this rule will not have a significant economic impact on a substantial number of small entities.

This rule will affect the following entities, some of which may be small entities: the owners or operators of vessels intending to transit or anchor in a portion of the Hudson River during the time this zone is activated.

This security zone will not have a significant economic impact on a substantial number of small entities for the following reasons: Vessel traffic can transit through the western 600 yards of the 950-yard wide Hudson River while the security zone is in effect, this rule will be in effect for only five hours, and extensive advance notifications which will be made. Additionally, the New York City Passenger Ship Terminal does not have any vessels scheduled to be berthed at Piers 88 or 90 during the event and do not expect to receive any at this late date. Circle Line Sightseeing Cruises anticipates only having to move 2 vessels at Pier 83 between 6 p.m. (e.s.t.) and 6:30 p.m. (e.s.t.) which they will be authorized to do.

Assistance for Small Entities

Under section 213(a) of the Small Business Regulatory Enforcement Fairness Act of 1996 (Pub. L. 104-121), we offered to assist small entities in understanding the rule so that they could better evaluate its affects on them and participate in the rulemaking process. The New York City Passenger Ship Terminal and Circle Line Sightseeing Cruises were both contacted about the affects this zone may have on their business. The Passenger Ship Terminal does not have any vessels scheduled to be berthed during the event. Circle Line anticipates only having to move 2 vessels between 6 p.m. (e.s.t.) and 6:30 p.m. (e.s.t.) during the event which they will be authorized to do.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that, under figure 2-1, paragraph 34(g), of Commandant Instruction M16475.1C, this rule is categorically excluded from further environmental documentation. This rule fits paragraph 34(g) as it establishes a security zone. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, 160.5; 49 CFR 1.46.

2. Add temporary § 165.T01-152 to read as follows:

§ 165.T01-152 Security Zone: Presidential Visit, Hudson River, New York.

(a) Location. The following area is a security zone: all waters of the Hudson River bound by the following points: from the southeast corner of Pier 90, Manhattan, where it intersects the seawall, west to approximate position 40°46′10″ N 074°00′13″ W (NAD 1983), south to approximate position 40°45′54″ N 074°00″25″ W (NAD 1983), then east to the northeast corner of Pier 83 where it intersects the seawall, then north to the point of beginning.

(b) Effective period. This section is effective from 6 p.m. (e.s.t.) until 11 p.m. (e.s.t.) on July 5, 2000.

(c) Regulations. (1) The general regulations contained in 33 CFR 165.33 apply.

(2) All persons and vessels shall comply with the instructions of the Coast Guard Captain of the Port or the designated on-scene-patrol personnel. These personnel comprise commissioned, warrant, and petty officers of the Coast Guard. Upon being hailed by a U. S. Coast Guard vessel by siren, radio, flashing light, or other means, the operator of a vessel shall proceed as directed.

Dated: June 27, 2000.
R.E. Bennis,
Captain, U.S. Coast Guard; Captain of the Port, New York.

[FR Doc. 00-16881 Filed 6-29-00; 1:19 pm]

BILLING CODE 4910-15-U